SECURITIES AND EXCHANGE COMMISSION

[File No. 500-1]

In the Matter of AdZone Research, Inc.; Order of Suspension of Trading

July 5, 2006.

It appears to the Securities and Exchange Commission that there is a lack of current and accurate information concerning the securities of AdZone Research, Inc. (“AdZone”), a Delaware corporation headquartered in Calverton, New York. Questions have arisen regarding the accuracy of assertions by AdZone, and by others, in press releases and Internet postings to investors concerning, among other things: (1) The company's contracts with two non-profit organizations, (2) the nature and extent of the orders that the company has received for the sale of licenses of its software products, and (3) the company's recent contributions to its employee Incentive Stock Plan.

The Commission is of the opinion that the public interest and the protection of investors require a suspension of trading in the securities of the above-listed company.

Therefore, it is ordered, pursuant to section 12(k) of the Securities Exchange Act of 1934, that trading in the above-listed company is suspended for the period from 9:30 a.m. EDT, July 5, 2006, through 11:59 p.m. EDT, on July 18, 2006.

By the Commission.
Nancy M. Morris,
Secretary.

[FR Doc. 06-6082 Filed 7-5-06; 11:28 am]

BILLING CODE 8010-01-P